DEPARTMENT OF ENERGY

[OE Docket No. EA-401]

Application To Export Electric Energy; Frontera Generation Limited Partnership and Lonestar Power Marketing LLC for Transfer of Authorization

AGENCY: Office of Electricity Delivery and Energy Reliability, DOE.

ACTION: Notice of Application.

SUMMARY: Frontera Generation Limited Partnership (Frontera) and Lonestar Power Marketing LLC (Lonestar) have jointly applied to transfer, from Frontera to Lonestar, the authority to transmit electric energy from the United States to Mexico, pursuant to section 202(e) of the Federal Power Act.

DATES: Comments, protests, or motions to intervene must be submitted on or before July 17, 2014.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On May 22, 2014, Frontera and Lonestar applied to transfer Frontera's existing authority to transmit electric energy from the United States to Mexico, using the electric transmission facilities authorized in Presidential permit PP-206, to Lonestar. DOE's regulations do not permit the voluntary transfer of export authority, but instead require a joint application to rescind the existing authorization and to issue a new authorization in the name of the transferee. DOE will consider this a joint application for a new authorization in the name of Lonestar. Lonestar is requesting expedited treatment of this application and issuance of an Order within 60 days.

In its application, Lonestar states that it does not own any electric generating or transmission facilities, and it does not have a franchised service area. The electric energy that Lonestar proposes to export to Mexico would be energy generated at the Frontera Generation Station. The existing international transmission facilities that Lonestar proposes to use for export have previously been authorized by Presidential permit PP-206, issued pursuant to Executive Order 10485, as amended.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments and other filings concerning the Lonestar application to export electric energy to Mexico should be clearly marked with OE Docket No. EA-401. An additional copy is to be provided directly to Thomas Favinger, Chief Executive Officer, Lonestar Power Marketing LLC, c/o The Blackstone Group L.P., 345 Park Avenue, New York, NY 10154 and to Brooksany Barrowes, Baker Botts L.L.P., 1299 Pennsylvania Ave. NW., Washington, DC 20004. A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available by request to the addresses provided above or by accessing the program Web site at http://energy.gov/node/11845.

Issued in Washington, DC, on June 11, 2014.
Brian Mills,
Director, Permitting and Siting, Office of Electricity Delivery and, Energy Reliability.

[FR Doc. 2014-14128 Filed 6-16-14; 8:45 am]

BILLING CODE 6450-01-P